DEPARTMENT OF JUSTICE

Notice of Lodging Proposed Consent Decree

In accordance with Departmental Policy, 28 CFR 50.7, notice is hereby given that a proposed Partial Consent Decree in United States v. Sainz, et al., Case No. 1:15-cv-21212-RNS, was lodged with the United States District Court for the Southern District of Florida, Miami Division, on March 27, 2015.

The proposed Partial Consent Decree concerns a complaint filed by the United States, on behalf of the United States Army Corps of Engineers, against Juan Carlos Sainz, Siramad Trujillo-Sainz, Victor Ortega, Narinedat Roy, Sainz Homes LLC, Sion Home's Builders LLC and Sion Homes LLC, to obtain injunctive relief and civil penalties for violations of Sections 301 and 404 of the Clean Water Act, 33 U.S.C. 1311 and 1344. The proposed Partial Consent Decree resolves these allegations against Juan Carlos Sainz, Siramad Trujillo-Sainz, and Sainz Homes LLC by requiring these Defendants to mitigate the losses of ecological functions resulting from the violation and directing them to pay a civil penalty.

The Department of Justice will accept written comments relating to this proposed Partial Consent Decree for thirty (30) days from the date of publication of this Notice. Please address comments to Andrew J. Doyle, Senior Attorney, United States Department of Justice, Environment and Natural Resources Division, Environmental Defense Section, Post Office Box 7611, Washington, DC 20044 and refer to United States v. Sainz, et al., DJ # 90-5-1-1-20150.

The proposed Partial Consent Decree may be examined at the Clerk's Office, United States District Court for the Southern District of Florida, Miami Division, 400 North Miami Avenue, Miami, FL 33128. In addition, the proposed Partial Consent Decree may be examined electronically at http://www.justice.gov/enrd/Consent_Decrees.html.

Cherie L. Rogers,
Assistant Section Chief, Environmental Defense Section, Environment and Natural Resources Division.

[FR Doc. 2015-07891 Filed 4-6-15; 8:45 am]

BILLING CODE CODE P